DEPARTMENT OF STATE

[Public Notice: 11791]

30-Day Notice of Proposed Information Collection: Electronic Medical Examination for Visa or Refugee Applicant

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to August 19, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Tonya Whigham, who may be reached at PRA_BurdenComments@state.gov or at 202-485-7586.

SUPPLEMENTARY INFORMATION:

• Title of Information Collection: Electronic Medical Examination for Visa Applicant or Refugee Applicant.

• OMB Control Number: 1405-0230.

• Type of Request: Extension of a Currently Approved Collection.

• Originating Office: Bureau of Consular Affairs, Visa Office (CA/VO).

• Form Number: DS-7794.

• Respondents: Visa Applicants; Follow-to-Join Refugee/Asylum Applicants; Parole Applicants with Boarding Foils.

• Estimated Number of Respondents: 1,100,000.

• Estimated Number of Responses: 1,100,000.

• Average Time per Response: 1 hour.

• Total Estimated Burden Time: 1,100,000 annual hours.

• Frequency: Once per respondent.¹

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This electronic collection records medical information necessary to determine whether visa applicants have medical conditions affecting the applicants' eligibility for a visa.

This collection is also used to collect medical examination information from follow-to-join refugees and certain individuals who have been paroled into or are seeking parole into the United States.

Methodology

The Department grants approved panel physicians access to an eMedical system to conduct medical examinations for determinations of eligibility for visas and other immigration benefits. The panel physician inputs the exam information into the eMedical portal, and it is transmitted to the Department for visa adjudication, follow-to-join refugee adjudication, and for the purpose of issuing boarding foils for certain individuals seeking parole from the Department of Homeland Security; it is thereafter retained in the Department's systems. The information is also transmitted to the Centers for Disease Control and Prevention's (“CDC”) systems. In some instances, if the individual has been admitted to the United States as a parolee or is seeking parole into the United States, the information is transmitted directly to the CDC, bypassing the Department. In relation to parolees, the data that is transmitted to the U.S. Government depends on the nature of parole as determined by the Department of Homeland Security.

Julie M. Stufft,
Deputy Assistant Secretary, Bureau of Consular Affairs, Department of State.

[FR Doc. 2022-15471 Filed 7-19-22; 8:45 am]

BILLING CODE 4710-06-P